FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4469F.

Name: A.C.M. Export Corporation.

Address: 12866 Reeveston, Houston, TX 77029.

Date Revoked: February 4, 2004.

Reason: Failed to maintain a valid bond.

License Number: 4530F.

Name: ACD Cargo, Inc.

Address: 1521 NW 82nd Avenue, Miami, FL 33126.

Date Revoked: January 14, 2004.

Reason: Failed to maintain a valid bond.

License Number: 015893N.

Name: Altamar Shipping Services, Inc.

Address: 2212 East 5th Avenue, Tampa, FL 33605.

Date Revoked: January 27, 2004.

Reason: Failed to maintain a valid bond.

License Number: 015247N.

Name: Amerindias, Inc.

Address: 5220 NW 72nd Avenue, Bay A/3, Miami, FL 33166.

Date Revoked: January 23, 2004.

Reason: Failed to maintain a valid bond.

License Number: 014946N.

Name: Crane Cargo System, Inc.

Address: 8160 NW 71st Street, Suite 119-120, Miami, FL 33166.

Date Revoked: January 29, 2004.

Reason: Failed to maintain a valid bond.

License Number: 1718F.

Name: Inexco Corp. dba International Express.

Address: 220 East Grand Avenue, Suite N, San Francisco, CA 94080.

Date Revoked: January 14, 2004.

Reason: Failed to maintain a valid bond.

License Number: 1120NF.

Name: Inter-Continental Corp. dba Taurus Marine Line.

Address: 7964 NW 14th Street, Miami, FL 33126.

Date Revoked: January 23, 2004.

Reason: Failed to maintain valid bonds.

License Number: 71F.

Name: Karl Schroff & Associates, Inc.

Address: Bldg., C2NW A.I.O.P., Hook Creek Blvd. & 145th Avenue, Valley Stream, NY 11581.

Date Revoked: January 31, 2004.

Reason: Failed to maintain a valid bond.

License Number: 8449N.

Name: Mercury Container Service, Inc.

Address: 1201 Corbin Street, Elizabeth, NJ 07201.

Date Revoked: January 23, 2004.

Reason: Surrendered license voluntarily.

License Number: 16940N.

Name: PLS International LP dba PLS Lines.

Address: 2060 Pennsylvania Avenue, Monaca, PA 15061.

Date Revoked: October 29, 2003.

Reason: Failed to maintain a valid bond.

License Number: 2132F.

Name: Seaflet, Inc.

Address: 5475 NW 72nd Avenue, Miami, FL 33166.

Date Revoked: December 5, 2003.

Reason: Failed to maintain a valid bond.

License Number: 1199F.

Name: Suarez Shipping Services, Inc.

Address: 5413 NW 72nd Avenue, Miami, FL 33126.

Date Revoked: December 25, 2003.

Reason: Failed to maintain a valid bond.

License Number: 013266N.

Name: Trans-Aero-Mar, Inc.

Address: 1203 NW, 93rd Ct., Miami, FL 33172.

Date Revoked: January 19, 2004.

Reason: Failed to maintain a valid bond.

License Number: 4642F.

Name: Varko International, Corp.

Address: 7700 NW 73rd Ct., Medley, FL 33166.

Date Revoked: January 27, 2004.

Reason: Failed to maintain a valid bond.

License Number: 502F.

Name: William Riddle dba Carson M. Simon Co.

Address: 209-211 Chestnut Street, Philadelphia, PA 19106.

Date Revoked: January 23, 2004.

Reason: Failed to maintain a valid bond.

License Number: 016491NF.

Name: World International Cargo Transfer USA, Inc.

Address: 15832 S. Broadway Avenue, Suite D, Gardena, CA 90248.

Date Revoked: January 23, 2004.

Reason: Failed to maintain valid bonds.

Sandra L. Kusumoto,
Director, Bureau of Consumer Complaints and Licensing.

[FR Doc. 04-4201 Filed 2-24-04; 8:45 am]

BILLING CODE 6730-01-P